DEPARTMENT OF COMMERCE

Foreign-Trade Zones Board

[B-56-2012]

Proposed Foreign-Trade Zone—Chenango County, NY; Under Alternative Site Framework

An application has been submitted to the Foreign-Trade Zones Board (the Board) by Chenango County, New York to establish a foreign-trade zone (FTZ) at sites in Chenango County, adjacent to the Syracuse CBP port of entry, under the alternative site framework (ASF) adopted by the Board (15 CFR 400.2(c)). The ASF is an option for grantees for the establishment or reorganization of zones and can permit significantly greater flexibility in the designation of new “subzones” or “usage-driven” FTZ sites for operators/users located within a grantee's “service area” in the context of the Board's standard 2,000-acre activation limit for a zone project. The application was submitted pursuant to the provisions of the Foreign-Trade Zones Act, as amended (19 U.S.C. 81a-81u), and the regulations of the Board (15 CFR part 400). It was formally filed on July 30, 2012. The applicant is authorized to make the proposal under Chapter 569, Laws of New York 2011, Section 224-27.

The proposed zone would be the second zone for the Syracuse CBP port of entry. The existing zone is: FTZ 90, Onondaga County (Grantee: County of Onondaga, Board Order 230, 11-4-1983).

The applicant's proposed service area under the ASF would be Chenango County. If approved, the applicant would be able to serve sites throughout the service area based on companies' needs for FTZ designation. The proposed service area is within and adjacent to the Syracuse Customs and Border Protection port of entry.

The proposed zone would include two initial “usage-driven” sites: Proposed Site 1 (342.47 acres)—Norwich Pharmaceuticals, Inc., 6826 State Highway 12, Norwich, Chenango County; and, Proposed Site 2 (7 acres)—CWS, Contract Packaging, 17 Midland Drive, 19 Sheldon Street and 97-100 East Main Street, Norwich, Chenango County.

The application indicates a need for zone services in Chenango County, New York. Several firms have indicated an interest in using zone procedures for warehousing/distribution and production activities. Specific production approvals are not being sought at this time. Such requests would be made to the Board on a case-by-case basis.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is October 1, 2012. Rebuttal comments in response to material submitted during the foregoing period may be submitted during the subsequent 15-day period to October 16, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: July 30, 2012.
Andrew McGilvray,
Executive Secretary.

[FR Doc. 2012-18914 Filed 8-1-12; 8:45 am]

BILLING CODE P